DEPARTMENT OF THE INTERIOR

Bureau of Land Management

[OR-957-00-1420-BJ: GP04-0231]

Filing of Plats of Survey: Oregon/Washington

AGENCY: Bureau of Land Management, Interior.

ACTION: Notice.

SUMMARY: The plats of survey of the following described lands were officially filed in the Oregon State Office, Portland, Oregon, on July 1, 2004.

Willamette Meridian

Oregon

T. 38 S., R. 4 W., accepted March 23, 2004

T. 20 S., R. 29 E., accepted March 23, 2004

T. 12 S., R. 3 E., accepted April 2, 2004

T. 1 N., R. 34 E., accepted April 2, 2004

T. 25 S., R. 5 W., accepted April 9, 2004

T. 30 S., R. 9 W., accepted May 6, 2004

T. 16 S., R. 6 W., accepted May 6, 2004

Washington

Tps. 21 & 22 N., R. 13 W., accepted March 23, 2004

T. 16 N., R. 20 E., accepted March 23, 2004

T. 22 N., R. 4 W., accepted April 9, 2004

T. 21 N., R. 4 W., accepted April 9, 2004

A copy of the plats may be obtained from the Public Room at the Oregon State Office, Bureau of Land Management, 333 SW. 1st Avenue, Portland, Oregon 97204, upon required payment. A person or party who wishes to protest against a survey must file a notice that they wish to protest. (at the above address) with the State Director, Bureau of Land Management, Portland, Oregon.

For further information contact: Chief, Branch of Geographic Sciences, Bureau of Land Management, (333 SW. 1st Avenue) P.O. Box 2965, Portland, Oregon 97208.

Dated: July 22, 2004.
Sherrie L. Reid,
Acting Chief, Branch of Realty and Records Services.

[FR Doc. 04-17845 Filed 8-4-04; 8:45 am]

BILLING CODE 4310-33-P